DEPARTMENT OF HOMELAND SECURITY

Coast Guard

33 CFR Part 117

[Docket No. USCG-2010-0866]

Drawbridge Operation Regulation; Des Allemands Bayou, LA

AGENCY: Coast Guard, DHS.

ACTION: Notice of temporary deviation from regulations.

SUMMARY: The Commander, Eighth Coast Guard District, has issued a temporary deviation from the regulation governing the operation of the Burlington Northern Santa Fe Railway swing bridge across Des Allemands Bayou, mile 14.0, in St. Charles and Lafourche Parishes, Louisiana. The deviation is necessary to perform extensive rehabilitation to the bridge. This deviation allows the bridge to remain closed to navigation completely from January 18, 2011 through February 22, 2011.

DATES: This deviation is effective from 7 a.m. on Tuesday, January 18, 2011 through 5 p.m. on Tuesday, February 22, 2011.

ADDRESSES: Documents mentioned in this preamble as being available in the docket are part of docket USCG-2010-866 and are available online by going to http://www.regulations.gov, inserting USCG-2010-0866 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David Frank, Bridge Administration Branch, Coast Guard; telephone 504-671-2128, e-mail David.M.Frank@uscg.mil. If you have questions on viewing the docket, call Renee V. Wright, Program Manager, Docket Operations, telephone 202-366-9826.

SUPPLEMENTARY INFORMATION: The Burlington Northern Santa Fe Railway swing span drawbridge across Bayou Des Allemands, mile 14.0 has a vertical clearance of three feet above mean high water in the closed-to-navigation position and unlimited in the open-to-navigation position. Navigation on the waterway consists of tugs with tows, fishing vessels and recreational craft. The Burlington Northern Santa Fe Railway requested a temporary deviation for the operation of the drawbridge to accommodate maintenance work, involving replacement of the steel truss members, stringers, floor beams and railroad ties and rails, an extensive but necessary maintenance operation. Presently, the draw opens on signal Monday through Friday from 7 a.m. until 3 p.m. At all other times the draw opens on signal if at least 4 hours notice is given. This work is essential for continued safe operation of the bridge.

The District Commander has, therefore, issued a deviation from the regulations in 33 CFR 117.439(b) authorizing the draw of the Burlington Northern Santa Fe Railroad swing span drawbridge to remain closed to navigation from 7 a.m. on Tuesday, January 18, 2011 through 5 p.m. on Tuesday, February 22, 2011.

In accordance with 33 CFR 117.35(e), the drawbridge must return to its regular operating schedule immediately at the end of the designated time period. This deviation from the operating regulations is authorized under 33 CFR 117.35.

Dated: October 6, 2010.
David M. Frank,
Bridge Administrator.

[FR Doc. 2010-26100 Filed 10-15-10; 8:45 am]

BILLING CODE 9110-04-P